DEPARTMENT OF ENERGY

Federal Energy Regulatory Commission

Request for Comment on the Revised Upland Erosion Control, Revegetation and Maintenance Plan and the Wetland and Waterbody Construction and Mitigation Procedures

December 5, 2002.

The Office of Energy Projects (OEP) staff has revised the Upland Erosion Control, Revegetation and Maintenance Plan (Plan) and the Wetland and Waterbody Construction and Mitigation Procedures (Procedures) referred to at 18 CFR 157.206(b)(3)(iv) of the Commission's regulations. The staff is providing one extra opportunity for public comment on the proposed revisions.

The proposed revisions to the Plan and Procedures were advertised by the Commission staff in a Notice issued January 11, 2002. This final draft incorporates comments gathered over the past 8 months from the natural gas pipeline industry and other agencies. The Plan and Procedures were last updated December 2, 1994. Many of the staff's proposed changes better address regional issues by converting some measures into performance-based standards. Other modifications provide necessary updates to reflect current laws and regulations.

We have posted final draft versions of the revised Plan and Procedures on our Web site showing the changes in a redline and strikeout format. The final drafts are available at http://www.ferc.gov/gas/environment/guidelines.htm.

Comments on the proposed revisions should be sent by electronic mail no later than December 20, 2002, to plan.comments@ferc.gov.

Linwood A. Watson, Jr.,
Deputy Secretary.

[FR Doc. 02-31189 Filed 12-10-02; 8:45 am]

BILLING CODE 6717-01-P